DEPARTMENT OF STATE

[Public Notice: 12581]

Notice of Charter Renewal for the Advisory Committee on Historical Diplomatic Documentation

ACTION: Notice.

SUMMARY: The Advisory Committee on Historical Diplomatic Documentation has renewed its charter for a period of two years.

DATES: The Charter was renewed on October 31, 2024.

FOR FURTHER INFORMATION CONTACT: Questions concerning the Committee, and the renewal of its Charter should be directed to Adam M. Howard, Executive Secretary, Advisory Committee on Historical Diplomatic Documentation, Department of State, Office of the Historian, 2300 E Street NW, Washington, DC 20372 (Navy Potomac Annex), telephone (202) 955-0214; email history@state.gov.

SUPPLEMENTARY INFORMATION: The Committee consists of nine members drawn from among historians, political scientists, archivists, international lawyers, and other social scientists who are distinguished in the field of U.S. foreign relations. This Advisory Committee will continue to make recommendations to the Historian and the Department of State on all aspects of the Department's program to publish the Foreign Relations of the United States series as well as on the Department's responsibility under statute (22 U.S.C. 4351, et seq.) to open its 25-year-old and older records for public review at the National Archives and Records Administration.

Adam M. Howard,
Executive Secretary, Office of the Historian, Department of State.

[FR Doc. 2024-27113 Filed 11-19-24; 8:45 am]

BILLING CODE 4710-34-P